DEPARTMENT OF THE INTERIOR

Fish and Wildlife Service

50 CFR Part 17

RIN 1018-AV51

[FWS-R4-ES-2008-0058; 92210-1117-0000-FY08-B4]

Endangered and Threatened Wildlife and Plants; Designation of Critical Habitat for the Alabama Sturgeon (Scaphirhyncus suttkusi)

AGENCY: Fish and Wildlife Service, Interior.

ACTION: Proposed rule; extension of comment period.

SUMMARY: We, the U.S. Fish and Wildlife Service (Service), announce the extension of the public comment period on the proposed revised designation of critical habitat for the Alabama sturgeon (Scaphirhyncus suttkusi) under the Endangered Species Act of 1973, as amended (Act). We are extending the comment period to allow all interested parties an opportunity to comment simultaneously on the revised proposed rule, the associated draft economic analysis, and the amended required determinations following a public hearing that will take place January 28, 2009.

DATES: Written Comments: We will consider comments received on or before February 9, 2009.

Public Hearings: We will hold a public hearing on January 28, 2009, at the Alabama Southern Community College in Monroeville, AL (see ADDRESSES). The hearing is open to all who wish to provide formal, oral comments regarding the proposed revised critical habitat and will be held from 7 p.m. to 9 p.m., central time, with an open house from 5:30 p.m. to 6:30 p.m., central time.

ADDRESSES: You may submit comments by one of the following methods:

• Federal eRulemaking Portal: http://www.regulations.gov. Follow the instructions for submitting comments.

• U.S. mail or hand-delivery: Public Comments Processing, Attn: FWS-R4-ES-2008-0058, Division of Policy and Directives Management, U.S. Fish and Wildlife Service, 4401 N. Fairfax Drive, Suite 222, Arlington, VA 22203.

• Public Hearing: A public hearing will be held (see DATES) at the Nettles Auditorium at Alabama Southern Community College, 2800 South Alabama Avenue, Monroeville, AL 36460.

We will not accept e-mail or faxes. We will post all comments on http://www.regulations.gov. This generally means that we will post any personal information you provide us.

FOR FURTHER INFORMATION CONTACT: Jeff Powell, Aquatic Species Biologist, U.S. Fish and Wildlife Service, Alabama Field Office, 1208 Main Street, Daphne, AL 36526; telephone: 251-441-5858; facsimile: 251-441-6222. If you use a telecommunications device for the deaf (TDD), call the Federal Information Relay Service (FIRS) at 800-877-8339.

SUPPLEMENTARY INFORMATION:

Background

We published a proposed designation of critical habitat for the Alabama sturgeon in the Federal Register on May 27, 2008 (73 FR 30361). The proposed rule opened a 60-day comment period, which closed on July 28, 2008.

On December 30, 2008, we published a proposed revised designation of critical habitat for the Alabama sturgeon and announced the opening of a second public comment period and the scheduling of a public hearing (73 FR 79770). We also announced the availability for public comment of a draft economic analysis and an amended required determinations section of the proposal. We further sought comment on our proposal to change the first primary constituent element from its original description because we have determined that the original wording failed to indicate that the flow needs of the species are relative to the season of the year.

The second comment period was opened for 30 days from December 30, 2008, to January 29, 2008. We are extending the comment period an additional 11 days to allow all interested parties an opportunity to comment after the January 28, 2009, public hearing. Our December 30, 2008, revised proposed rule (73 FR 79770) specifies the information that we seek from the public. If you submitted comments previously, you do not need to resubmit them because we have already incorporated them into the public record and will fully consider them in preparation of the final rule.

Authors

The primary authors of this notice are the staff members of the Southeast Regional Office, U.S. Fish and Wildlife Service.

Authority

The authority for this action is the Endangered Species Act of 1973 (16 U.S.C. 1531 et seq.).

Dated: January 15, 2009.
Lyle Laverty,
Assistant Secretary for Fish and Wildlife and Parks.

[FR Doc. E9-1455 Filed 1-27-09; 8:45 am]

BILLING CODE 4310-55-P